DEPARTMENT OF COMMERCE

National Oceanic and Atmospheric Administration

RIN 0648-XE761

Atlantic Highly Migratory Species; Meeting of the Atlantic Highly Migratory Species Advisory Panel

AGENCY: National Marine Fisheries Service (NMFS), National Oceanic and Atmospheric Administration (NOAA), Commerce.

ACTION: Notice of public meeting and webinar/conference call.

SUMMARY: NMFS will hold a 2-day Atlantic Highly Migratory Species (HMS) Advisory Panel (AP) meeting in September 2016. The intent of the meeting is to consider options for the conservation and management of Atlantic HMS. The meeting is open to the public.

DATES: The AP meeting and webinar will be held from 9 a.m. to 6 p.m. on both Wednesday and Thursday, September 7 and September 8, 2016.

ADDRESSES: The meeting will be held at the Sheraton Silver Spring Hotel, 8777 Georgia Avenue, Silver Spring, MD 20910. The meeting presentations will also be available via WebEx webinar/conference call.

On Wednesday, September 7, 2016, the conference call information is phone number 1-888-469-2188; Participant Code: 7954019; and the webinar event address is: https://noaaevents2.webex.com/noaaevents2/onstage/g.php?MTID=eec1bb32466dd8905125c5db01b539623; event password: NOAA.

On Thursday, September 8, 2016, the conference call information is phone number 1-888-469-2188; Participant Code: 7954019; and the webinar event address is: https://noaaevents2.webex.com/noaaevents2/onstage/g.php?MTID=e9fcef19f3c43ce6255dfad07807a71f4; event password: NOAA.

Participants are strongly encouraged to log/dial in 15 minutes prior to the meeting. NMFS will show the presentations via webinar and allow public comment during identified times on the agenda.

FOR FURTHER INFORMATION CONTACT: Peter Cooper or Margo Schulze-Haugen at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for Atlantic HMS. NMFS consults with and considers the comments and views of AP members when preparing and implementing FMPs or FMP amendments for Atlantic tunas, swordfish, billfish, and sharks.

The AP has previously consulted with NMFS on: Amendment 1 to the Billfish FMP (April 1999); the HMS FMP (April 1999); Amendment 1 to the HMS FMP (December 2003); the Consolidated HMS FMP (October 2006); and Amendments 1, 2, 3, 4, 5a, 5b, 6, 7, 8, 9 and 10 to the 2006 Consolidated HMS FMP (April and October 2008, February and September 2009, May and September 2010, April and September 2011, March and September 2012, January and September 2013, April and September 2014, March and September 2015, March 2016), among other things.

The intent of this meeting is to consider alternatives for the conservation and management of all Atlantic tunas, swordfish, billfish, and shark fisheries. We anticipate discussing the results of the 2016 dusky shark stock assessment and the Amendment 5b timeline; Draft Amendment 10 on Essential Fish Habitat, including potential Habitat Areas of Particular Concern; implementation updates for Final Amendment 7 on bluefin tuna management; and progress updates on various other rulemakings, including archival tag requirements, blacknose and small coastal shark management; domestic implementation of recommendations from the 2015 meeting of the International Commission for the Conservation of Atlantic Tunas; and potential changes to limited access vessel upgrading requirements and Individual Bluefin Quota program inseason transfer criteria. We also anticipate discussing recreational topics regarding data collection and economic surveys, as well as progress updates regarding the exempted fishing permit request to conduct research in pelagic longline closed areas. Finally, we also intend to invite other NMFS offices to provide updates on their activities relevant to HMS fisheries.

Additional information on the meeting and a copy of the draft agenda will be posted prior to the meeting at: http://www.nmfs.noaa.gov/sfa/hms/advisory_panels/hms_ap/meetings/ap_meetings.html.

Special Accommodations

This meeting is physically accessible to people with disabilities. Requests for sign language interpretation or other auxiliary aids should be directed to Peter Cooper at (301) 427-8503 at least 7 days prior to the meeting.

Dated: July 27, 2016.
Emily H. Menashes,
Acting Director, Office of Sustainable Fisheries, National Marine Fisheries Service.

[FR Doc. 2016-18248 Filed 8-1-16; 8:45 am]

BILLING CODE 3510-22-P